DEPARTMENT OF LABOR

Occupational Safety and Health Administration

[Docket No. OSHA-2007-0041]

FM Approvals LLC: Application for Expansion of Recognition and Proposed Modification to the NRTL Program's List of Appropriate Test Standards

AGENCY: Occupational Safety and Health Administration (OSHA), Labor.

ACTION: Notice.

SUMMARY: In this notice, OSHA announces the application of FM Approvals, LLC, for expansion of its recognition as a Nationally Recognized Testing Laboratory (NRTL) and presents the Agency's preliminary finding to grant the application. Additionally, OSHA proposes to add four test standards to the NRTL Program's List of Appropriate Test Standards.

DATES: Submit comments, information, and documents in response to this notice, or requests for an extension of time to make a submission, on or before May 30, 2018.

ADDRESSES: Submit comments by any of the following methods:

Electronically: You may submit comments and attachments electronically at: http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit a copy of your comments and attachments to the OSHA Docket Office, Docket No. OSHA-2007-0041, Occupational Safety and Health Administration, U.S. Department of Labor, Room N-3653, 200 Constitution Avenue NW, Washington, DC 20210. Deliveries (hand, express mail, messenger, and courier service) are accepted during the Docket Office's normal business hours, 10:00 a.m. to 3:00 p.m., E.T.

Instructions: All submissions must include the Agency name and OSHA docket number (OSHA-2007-0041) for the Information Collection Request (ICR). All comments, including any personal information you provide, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download through the website. All submissions, including copyrighted material, are available for inspection at the OSHA Docket Office. You may also contact Kevin Robinson at the address below to obtain a copy of the ICR.

Extension of comment period: Submit requests for an extension of the comment period on or before May 30, 2018 to the Office of Technical Programs and Coordination Activities, Directorate of Technical Support and Emergency Management, Occupational Safety and Health Administration, U.S. Department of Labor, 200 Constitution Avenue NW, Room N-3655, Washington, DC 20210, or by fax to (202) 693-1644.

FOR FURTHER INFORMATION CONTACT: Information regarding this notice is available from the following sources:

Press inquiries: Contact Mr. Frank Meilinger, Director, OSHA Office of Communications, telephone: (202) 693-1999 email: meilinger.francis2@dol.gov.

General and technical information: Contact Mr. Kevin Robinson, Director, Office of Technical Programs and Coordination Activities, Directorate of Technical Support and Emergency Management, Occupational Safety and Health Administration, telephone: (202) 693-2110 or email: robinson.kevin@dol.gov.

SUPPLEMENTARY INFORMATION:

I. Notice of the Application for Expansion

OSHA is providing notice that FM Approvals, LLC, (FM), is applying for expansion of its current recognition as a NRTL. FM requests the addition of 28 test standards to its NRTL scope of recognition.

OSHA recognition of a NRTL signifies that the organization meets the requirements specified in 29 CFR 1910.7. Recognition is an acknowledgment that the organization can perform independent safety testing and certification of the specific products covered within its scope of recognition. Each NRTL's scope of recognition includes (1) the type of products the NRTL may test, with each type specified by its applicable test standard; and (2) the recognized site(s) that has/have the technical capability to perform the product-testing and product-certification activities for test standards within the NRTL's scope. Recognition is not a delegation or grant of government authority; however, recognition enables employers to use products approved by the NRTL to meet OSHA standards that require product testing and certification.

The Agency processes applications by a NRTL for initial recognition and for an expansion or renewal of this recognition, following requirements in Appendix A to 29 CFR 1910.7. This appendix requires that the Agency publish two notices in the Federal Register in processing an application. In the first notice, OSHA announces the application and provides its preliminary finding. In the second notice, the Agency provides its final decision on the application. These notices set forth the NRTL's scope of recognition or modifications of that scope. OSHA maintains an informational web page for each NRTL, including FM, which details the NRTL's scope of recognition. These pages are available from the OSHA website at http://www.osha.gov/dts/otpca/nrtl/index.html.

FM currently has two facilities (sites) recognized by OSHA for product testing and certification, with its headquarters located at: FM Approvals, LLC, 1151 Boston-Providence Turnpike, Norwood, Massachusetts 02062. A complete list of FM's scope of recognition is available at https://www.osha.gov/dts/otpca/nrtl/fm.html.

II. General Background on the Application

FM submitted an application, dated July 15, 2016 (OSHA-2007-0041-0008), to expand its recognition to include 28 additional test standards. OSHA staff performed a detailed analysis of the application packet and reviewed other pertinent information. OSHA did not perform any on-site reviews in relation to this application. In reviewing the application, OSHA determined that three of the requested standards had been withdrawn by a standards development organization; therefore, OSHA is not proposing to add those three standards to FM's NRTL scope of recognition.¹

¹ OSHA is simultaneously publishing a Federal Register notice that will remove those three standards from the NRTL List of Appropriate Standards.

Table 1 lists the appropriate test standards found in FM's application for expansion for testing and certification of products under the NRTL Program.

Table 1—Proposed List of Appropriate Test Standards for Inclusion in FM's NRTL Scope of Recognition
Test standard | Test standard title
UL 50 | Enclosures for Electrical Equipment, Non-Environmental Considerations.
UL 50E | Enclosures for Electrical Equipment, Environmental Considerations.
UL 60079-0 | Explosive Atmospheres—Part 0: Equipment—General Requirements.
ISA 60079-0 | Explosive Atmospheres—Part 0: Equipment—General Requirements.
UL 60079-1 | Standard for Explosive Atmospheres—Part 1: Equipment Protection by Flameproof Enclosures “d”.
ISA 60079-1 | Standard for Explosive Atmospheres—Part 1: Equipment Protection by Flameproof Enclosures “d”.
UL 60079-2 | Standard for Explosive Atmospheres—Part 2: Equipment Protection by Pressurized Enclosures “p”.
UL 60079-5 | Standard for Explosive Atmospheres—Part 5: Equipment Protection by Powder Filling “q”.
UL 60079-6 | Standard for Explosive Atmosphere—Part 6: Equipment Protection Liquid Immersion “o”.
ISA 60079-6 | Standard for Explosive Atmosphere—Part 6: Equipment Protection Liquid Immersion “o”.
UL 60079-7 | Standard for Explosive Atmospheres—Part 7: Equipment Protection by Increased Safety “e”.
ISA 60079-7 | Standard for Explosive Atmospheres—Part 7: Equipment Protection by Increased Safety “e”.
UL 60079-11 | Standard for Explosive Atmospheres—Part 11: Equipment Protection by Intrinsic Safety “i”.
ISA 60079-11 | Standard for Explosive Atmospheres—Part 11: Equipment Protection by Intrinsic Safety “i”.
UL 60079-15 | Standard for Explosive Atmospheres—Part 15: Equipment Protection by Type of Protection “n”.
ISA 60079-15 | Standard for Explosive Atmospheres—Part 15: Equipment Protection by Type of Protection “n”.
UL 60079-18 | Standard for Explosive Atmospheres—Part 18: Equipment Protection by Encapsulation “m”.
UL 60079-25 | Standard for Explosive Atmospheres—Part 25: Intrinsically Safe Electrical Systems.
ISA 60079-25* | Standard for Explosive Atmospheres—Part 25: Intrinsically Safe Electrical Systems.
UL 60079-26* | Standard for Explosive Atmospheres—Part 26: Equipment with Equipment Protection Level (EPL) Ga.
ISA 60079-26 | Standard for Explosive Atmospheres—Part 26: Equipment with Equipment Protection Level (EPL) Ga.
UL 60079-28* | Standard for Explosive Atmospheres—Part 28: Protection of Equipment and Transmission Systems Using Optical Radiation.
ISA 60079-28 | Standard for Explosive Atmospheres—Part 28: Protection of Equipment and Transmission Systems Using Optical Radiation, Edition 1.1.
UL 60079-31* | Standard for Explosive Atmospheres—Part 31: Equipment Dust Ignition Protection by Enclosure “t”.
ISA 60079-31 | Standard for Explosive Atmospheres—Part 31: Equipment Dust Ignition Protection by Enclosure “t”.
* Represents the standard that OSHA proposes to add to the NRTL Program's List of Appropriate Test Standards.

III. Proposal To Add New Test Standard to the NRTL Program's List of Appropriate Test Standards

Periodically, OSHA will propose to add new test standards to the NRTL List of Appropriate Test Standards following an evaluation of the test standard document. To qualify as an appropriate test standard, the Agency evaluates the document to (1) verify it represents a product category for which OSHA requires certification by a NRTL, (2) verify the document represents an end product and not a component, and (3) verify the document defines safety test specifications (not installation or operational performance specifications).

In this notice, OSHA proposes to add four new test standards to the NRTL Program's List of Appropriate Test Standards. Table 2, lists the test standards that are new to the NRTL Program. OSHA preliminarily determined that these test standards are appropriate test standards and proposes to include them in the NRTL Program's List of Appropriate Test Standards. OSHA seeks public comment on this preliminary determination.

Table 2—Test Standards OSHA Is Proposing To Add to the NRTL Program's List of Appropriate Test Standards
Test standard | Test standard title
ISA 60079-25 | Standard for Explosive Atmospheres—Part 25: Intrinsically Safe Electrical Systems.
UL 60079-28 | Standard for Explosive Atmospheres—Part 28: Protection of Equipment and Transmission Systems Using Optical Radiation.
UL 60079-26 | Standard for Explosive Atmospheres—Part 26: Equipment with Equipment Protection Level (EPL) Ga.
UL 60079-31 | Standard for Explosive Atmospheres—Part 31: Equipment Dust Ignition Protection Enclosure “t”.

IV. Preliminary Findings on the Application

FM submitted an acceptable application for expansion of its scope of recognition. OSHA's review of the application file, and pertinent documentation, indicate that FM can meet the requirements prescribed by 29 CFR 1910.7 for expanding its recognition to include the addition of these 25 test standards for NRTL testing and certification listed above, including 4 standards that will be added to OSHA's list of Appropriate Test Standards. This preliminary finding does not constitute an interim or temporary approval of FM's application.

OSHA welcomes public comment as to whether FM meets the requirements of 29 CFR 1910.7 for expansion of its recognition as a NRTL. Comments should consist of pertinent written documents and exhibits. Commenters needing more time to comment must submit a request in writing, stating the reasons for the request. Commenters must submit the written request for an extension by the due date for comments. OSHA will limit any extension to 10 days unless the requester justifies a longer period. OSHA may deny a request for an extension if the request is not adequately justified. To obtain or review copies of the exhibits identified in this notice, as well as comments submitted to the docket, contact the Docket Office, Room N-3653, Occupational Safety and Health Administration, U.S. Department of Labor, at the above address. These materials also are available online at http://www.regulations.gov under Docket No. OSHA-2007-0041.

OSHA staff will review all comments to the docket submitted in a timely manner and, after addressing the issues raised by these comments, will make a recommendation to the Assistant Secretary for Occupational Safety and Health regarding the application for recognition. The Assistant Secretary will make the final decision on granting the application. In making this decision, the Assistant Secretary may undertake other proceedings prescribed in Appendix A to 29 CFR 1910.7.

OSHA will publish a public notice of its final decision in the Federal Register.

IV. Authority and Signature

Loren Sweatt, Deputy Assistant Secretary of Labor for Occupational Safety and Health, authorized the preparation of this notice. Accordingly, the Agency is issuing this notice pursuant to 29 U.S.C. 657(g)(2), Secretary of Labor's Order No. 1-2012 (77 FR 3912, Jan. 25, 2012), and 29 CFR 1910.7.

Signed at Washington, DC, on May 9, 2018.
Loren Sweatt,
Deputy Assistant Secretary of Labor for Occupational Safety and Health.

[FR Doc. 2018-10331 Filed 5-14-18; 8:45 am]

BILLING CODE 4510-26-P